DEPARTMENT OF TRANSPORTATION

Surface Transportation Board

[Docket No. FD 35971]

Intermodal RR Transfer, LLC—Lease and Operation Exemption—JACJON Associates

Intermodal RR Transfer, LLC (IRRT), a noncarrier, has filed a verified notice of exemption under 49 CFR 1150.31 to lease from JACJON Associates (JACJON) ¹ and to operate 590 linear feet of railroad track extending from the terminus of the track at the Passaic River to the point of interchange with Consolidated Rail Corporation (Conrail), in Kearny, Hudson County, N.J. (the Line).² IRRT states that it intends to provide rail service over the Line and to interchange with Conrail, pursuant to an agreement to be reached with Conrail.

¹ IRRT has filed a copy of the Lease Agreement between IRRT and JACJON, a noncarrier. See Anthony Macrie—Continuance in Control Exemption—N.J. Seashore Lines, Inc., FD 35296, slip op. at 3-4 (STB served Aug. 31, 2010).

² According to IRRT, there are no mileposts associated with the Line, but it is located on JACJON's property at 76 Central Avenue, Kearney, N.J.

The transaction may be consummated on or after November 15, 2015, the effective date of the exemption (30 days after the exemption was filed).

IRRT certifies that, as a result of this transaction, its projected revenues will not exceed those of a Class III rail carrier and will not exceed $5 million annually.

IRRT states that the Line previously has been owned and operated as private track and might otherwise be considered spur, industrial, or switching track exempt from the Board's authority under 49 U.S.C. 10906, except that this is IRRT's initial rail acquisition and operation. IRRT certifies that the lease agreement contains no interchange commitment between the parties.

If the notice contains false or misleading information, the exemption is void ab initio. Petitions to revoke the exemption under 49 U.S.C. 10502(d) may be filed at any time. The filing of a petition to revoke will not automatically stay the effectiveness of the exemption. Petitions to stay must be filed no later than November 6, 2015 (at least seven days before the exemption becomes effective).

An original and 10 copies of all pleadings, referring to Docket No. FD 35971, must be filed with the Surface Transportation Board, 395 E Street SW., Washington, DC 20423-0001. In addition, a copy must be served on Richard H. Streeter, 5255 Partridge Lane NW., Washington, DC 20016.

Board decisions and notices are available on our Web site at WWW.STB.DOT.GOV.

Decided: October 27, 2015.
By the Board, Rachel D. Campbell, Director, Office of Proceedings.
Brendetta S. Jones,
Clearance Clerk.

[FR Doc. 2015-27722 Filed 10-29-15; 8:45 am]

BILLING CODE 4915-01-P